ENVIRONMENTAL PROTECTION AGENCY

[EPA-HQ-OAR-2017-0430; FRL-9968-87-OAR]

Notice of Intent To Establish Voluntary Criteria for Radon Credentialing Organizations; Extension of the Comment Period

AGENCY: Environmental Protection Agency (EPA).

ACTION: Notice of availability; extension of the comment period.

SUMMARY: The U.S. Environmental Protection Agency (EPA) is announcing an extension of the public comment period by 30 days for the Notice of Intent to Establish Voluntary Criteria for Radon Credentialing Organizations.

DATES: The comment period for the Notice of Intent to Establish Voluntary Criteria for Radon Credentialing Organizations (82 FR 39993), is extended. Written comments must be received on or before November 23, 2017.

ADDRESSES: Submit your comments, identified by Docket ID No. EPA-HQ-OAR-2017-0430, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Katrin Kral, EPA Office of Radiation and Indoor Air, (202) 343-9454; kral.katrin@epa.gov.

SUPPLEMENTARY INFORMATION: The EPA published the Notice of Intent to Establish Voluntary Criteria for Radon Credentialing Organizations on August 23, 2017, in the Federal Register (82 FR 39993), which included a request for comments on or before October 23, 2017. The purpose of this document is to extend the public comment period.

A. What should I consider as I prepare my comments for the EPA?

1. Tips for Preparing Your Comments. When submitting comments, remember to:

• Identify the notice by docket number, subject heading, Federal Register date and page number.

• Follow directions—EPA may ask you to respond to specific questions or organize comments by including a specific reference.

• Explain why you agree or disagree; suggest alternatives and substitute language for your requested changes.

• Describe any assumptions and provide any technical information and/or data that you used.

• If you estimate potential costs or burdens, explain how you arrived at your estimate in sufficient detail to allow it to be reproduced.

• Illustrate your concerns with specific examples and suggest alternatives.

• Explain your views as clearly as possible, avoiding the use of profanity or personal threats.

• Make sure to submit your comments by the comment period deadline identified.

B. How can I learn more about this?

The EPA has established a docket for this action under Docket ID No. EPA-HQ-OAR-2017-0430. Please refer to the original Federal Register for detailed information about this proposed action. The EPA has also included information on its Web site at www.epa.gov/radon. Depending on interest and questions received, EPA may host a question and answer session via webinar during the comment period. Please visit the Web site regularly for updates.

In response to requests for an extension, we are extending the public comment period through November 23, 2017. This action will provide the public additional time to provide comments.

Dated: September 26, 2017.
David Rowson,
Director, Indoor Environments Division.

[FR Doc. 2017-21519 Filed 10-4-17; 8:45 am]

BILLING CODE 6560-50-P